FEDERAL RESERVE SYSTEM

Notice of Proposals To Engage in or To Acquire Companies Engaged in Permissible Nonbanking Activities

The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the question whether the proposal complies with the standards of section 4 of the BHC Act.

Comments received are subject to public disclosure. In general, comments received will be made available without change and will not be modified to remove personal or business information including confidential, contact, or other identifying information. Comments should not include any information such as confidential information that would not be appropriate for public disclosure.

Unless otherwise noted, comments regarding the applications must be received at the Reserve Bank indicated or the offices of the Board of Governors, Benjamin W. McDonough, Deputy Secretary of the Board, 20th Street and Constitution Avenue NW, Washington, DC 20551-0001, not later than November 28, 2025.

A. Federal Reserve Bank of Atlanta (Erien O. Terry, Assistant Vice President) 1000 Peachtree Street NE, Atlanta, Georgia 30309. Comments can also be sent electronically to Applications.Comments@atl.frb.org:

1. Education Loan Finance, Inc., Knoxville, Tennessee, and its subsidiary, Southeast Bancorp, Inc., Farragut, Tennessee; to engage de novo in data processing activities through a proposed new wholly-owned subsidiary, OpenETX, Farragut, Tennessee, pursuant to section 225.28(b)(14) of the Board's Regulation Y.

2. Credicorp LTD., Hamilton, Bermuda; to retain voting shares of Credicorp Capital USA, Inc., Miami, Florida, and thereby indirectly retain voting shares of its wholly owned subsidiaries Credicorp Capital Advisors LLC, Miami, Florida, and Credicorp Capital, LLC, Coral Gables, Florida, and thereby continue to engage in riskless principal transactions pursuant to section 225.28(b)(7)(ii) of the Board's Regulation Y.

B. Federal Reserve Bank of Minneapolis (Mark Nagle, Assistant Vice President) 90 Hennepin Avenue, Minneapolis, Minnesota 55480-0291. Comments can also be sent electronically to MA@mpls.frb.org:

1. Broadway Bancshares, Inc., Gilbert, Minnesota; to engage de novo in tax-preparation services pursuant to section 225.28(b)(6)(vi), management consulting pursuant to section 225.28(b)(9)(i), and data processing activities pursuant to section 225.28(b)(14), all of the Board's Regulation Y.

Board of Governors of the Federal Reserve System.
Michele Taylor Fennell,
Associate Secretary of the Board.

[FR Doc. 2025-19856 Filed 11-10-25; 8:45 am]

BILLING CODE; P